NATIONAL SCIENCE FOUNDATION

Sunshine Act Meeting; National Science Board

The National Science Board's Committee on National Science and Engineering Policy (SEP), pursuant to NSF regulations (45 CFR part 614), the National Science Foundation Act, as amended (42 U.S.C. 1862n-5), and the Government in the Sunshine Act (5 U.S.C. 552b), hereby gives notice of the scheduling of a CHANGE in a teleconference for the transaction of National Science Board business, as follows:

FEDERAL REGISTER CITATION OF PREVIOUS ANNOUNCEMENT: 85 FR 60273, which appeared on September 24, 2020.

PREVIOUSLY ANNOUNCED TIME & DATE OF THE MEETING: Thursday, October 8, 2020 at 1:30-2:30 p.m. EDT.

CHANGES IN THE MEETING: The time of the meeting is now 1:30-2 p.m. on the same date of October 8, 2020. The matters to be considered will include the chair's opening remarks and the discussion of the narrative outlines for the SEI thematic report on innovation. Discussion of the narrative outline for the thematic report on knowledge-and technology-intensive industries has been postponed to a time to be announced later.

CONTACT PERSON FOR MORE INFORMATION: Point of contact for this meeting is: Chris Blair, cblair@nsf.gov, 703-292-7000. To listen to this teleconference, members of the public must send an email to nationalsciencebrd@nsf.gov at least 24 hours prior to the teleconference. The National Science Board Office will send requesters a toll-free dial-in number. Meeting information and updates (time, place, subject matter or status of meeting) may be found at http://www.nsf.gov/nsb/meetings/notices.jsp#sunshine. Please refer to the National Science Board website www.nsf.gov/nsb for additional information.

Chris Blair,
Executive Assistant to the National Science Board Office.

[FR Doc. 2020-22184 Filed 10-2-20; 4:15 pm]

BILLING CODE P